DEPARTMENT OF AGRICULTURE

Forest Service

RIN 0596-AC50

Notice of Extension of Public Comment Period—Proposed Directives for Forest Service Outfitting and Guiding Special Use Permits and Insurance Requirements for Forest Service Special Use Permits

AGENCY: Forest Service, USDA.

ACTION: Notice of extension for public comment period.

SUMMARY: The Forest Service is extending the public comment period for the proposed directive regarding Forest Service Outfitting and Guiding Special Use Permits and Insurance Requirements for Forest Service Special Use Permits for an additional 30 days to March 20, 2008. The original notice called for comments to be submitted by January 17, 2008 (72 FR 59246, October 19, 2007). A second notice (72 FR 71113, December 14, 2007) extended the comment period until February 19, 2008.

DATES: Comments must be received in writing by March 20, 2008.

ADDRESSES: Send comments electronically by following the instructions at the Federal eRulemaking portal at http://www.regulation.gov. Comments also may be submitted by mail to U.S. Forest Service, Attn: Carolyn Holbrook, Recreation and Heritage Resources Staff (2720), 1400 Independence Avenue, SW., Mail Stop 1125, Washington, DC 20250-1125. If comments are sent electronically, the public is requested not to send duplicate comments by mail. Please confine comments to issues pertinent to the proposed directives, explain the reasons for any recommended changes, and, where possible, reference the specific section and wording being addressed.

All comments, including names and addresses when provided, will be placed in the record and will be available for public inspection and copying. The public may inspect comments received on these proposed directives in the Office of the Director, Recreation and Heritage Resources Staff, 4th Floor Central, Sidney R. Yates Federal Building, 14th and Independence Avenue, SW., Washington, DC, on business days between 8:30 a.m. and 4 p.m. Those wishing to inspect comments are encouraged to call ahead at (202) 205-1426 to facilitate entry into the building.

FOR FURTHER INFORMATION CONTACT: Carolyn Holbrook, (202) 205-1426, Recreation and Heritage Resources Staff.

Dated: February 7, 2008.
Gloria Manning,
Associate Deputy Chief—NFS.

[FR Doc. E8-2656 Filed 2-12-08; 8:45 am]

BILLING CODE 3410-11-P